DEPARTMENT OF VETERANS AFFAIRS

[OMB Control No. 2900-0002]

Agency Information Collection Activity Under OMB Review: 21P-527 Income, Net Worth and Employment Statement, 21P-527EZ Application for Veterans Pension

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0002”.

FOR FURTHER INFORMATION CONTACT: Maribel Aponte, Office of Enterprise and Integration, Data Governance Analytics (008), 1717 H Street NW, Washington, DC 20006, (202) 266-4688 or email maribel.aponte@va.gov. Please refer to “OMB Control No. 2900-0002” in any correspondence.

SUPPLEMENTARY INFORMATION:

Authority: 38 U.S.C. 5101(a), 38 CFR 1502, 38 CFR 1503.

Title: 21P-527 Income, Net Worth and Employment Statement, 21P-527EZ Application for Veterans Pension.

OMB Control Number: 2900-0002.

Type of Review: Revision of a currently approved collection.

Abstract: The Department of Veterans Affairs (VA) through its Veterans Benefits Administration (VBA) administers an integrated program of benefits and services, established by law, for Veterans, service personnel, and their dependents and/or beneficiaries. Title 38 U.S.C. 5101(a), 38 CFR 1502, 38 CFR 1503 provides that a specific claim in the form provided by the Secretary must be filed in order for benefits to be paid to any individual under the laws administered by the Secretary. VA Form 21P-527EZ, Application for Pension, is the prescribed form for Veterans Pension applications. VA Form 21P-527 Income, Net Worth and Employment Statement, is used by Veterans to apply for pension benefits after they have previously applied for pension or for service-connected disability compensation using one of the prescribed forms. A Veteran might reapply for pension using this form if a previous compensation or pension claim was denied or discontinued, or if the Veteran is receiving compensation and the veteran now believes that pension would be a greater benefit. The following updates were made: VA Form 21P-527EZ, Application for Veterans Pension, VA Form 21P-527, Income, Net Worth and Employment Statement VA Form 21P-527EZ has been updated, to include updated instructions, added an optional use Veterans Benefits Application Checklist for applicant's benefit to assist in organizing submission of claim, separated Section I and II to split Veteran's Identification Information from contact information, removed questions How many times veteran married, How many times Spouse married, as regulations allow, removed mailing address of nursing home or facility from Section VIII as this is covered in the Worksheet the claimant is directed to complete, added an income source section and updated Section IX instructions to reflect this change, added an Alternate Signer Certification and Signature (Section XIII), estructured Worksheet for An Assisted Living, Adult Daycare, or a Similar Facility and the Worksheet for In-Home Attendant Expenses and questions removed for better clarity. New standardization data points; to include optical character recognition boxes. This is a non-substantive change. The Federal Register Notice with a 60-day comment period soliciting comments on this collection of information was published at 87 FR 18484 on March 30, 2022, pages 18484-18485.

Affected Public: Individuals or Households.

Estimated Annual Burden: 24,731 hours.

Estimated Average Burden per Respondent: 27.5 minutes.

Frequency of Response: On occasion.

Estimated Number of Respondents: 53,958.

By direction of the Secretary.
Dorothy Glasgow,
VA PRA Clearance Officer, (Alt), Office of Enterprise and Integration, Data Governance Analytics, Department of Veterans Affairs.

[FR Doc. 2022-12693 Filed 6-10-22; 8:45 am]

BILLING CODE 8320-01-P